DEPARTMENT OF THE INTERIOR

Fish and Wildlife Service

Lake Ophelia National Wildlife Refuge

AGENCY: Fish and Wildlife Service, Interior.

ACTION: Notice of availability of the Draft Comprehensive Conservation Plan and Environmental Assessment for Lake Ophelia National Wildlife Refuge in Avoyelles Parish, Louisiana.

SUMMARY: The Fish and Wildlife Service announces that a Draft Comprehensive Conservation Plan and Environmental Assessment for Lake Ophelia National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation and photography, and environmental education and interpretation. Significant issues addressed in the draft plan include: Threatened and endangered species; waterfowl management; neotropical migratory birds; bottomland hardwood restoration; agriculture; visitor services (hunting, fishing, wildlife observation, wildlife photography, and environmental education and interpretation); funding and staffing; cultural resources; land acquisition; and forest and fragmentation. The Service developed four alternatives for managing the refuge and chose Alternative 2 as the preferred alternative.

Alternatives

Alternative 1 represents no change from current management of the refuge. Under this alternative, 17,525 acres of refuge land would be protected, maintained, restored, and enhanced for resident wildlife, waterfowl, migratory nongame birds, and threatened and endangered species. Refuge management programs would continue to be developed and implemented with little baseline biological information. All refuge management actions would be directed toward achieving the primary purposes (preserving wintering habitat for mallards, pintails, and wood ducks; providing production habitat for wood ducks; and helping to meet the habitat conservation goals of the North Avenue Waterfowl Management Plan), while contributing to other national, regional, and state goals to protect and restore shorebird, neotropial breeding bird, woodcock, and Louisiana black bear populations. Cooperative farming would continue to be used to manage and maintain approximately 3,700 acres of cropland and moist-soil habitats. No active forest management (other than reforestation of previously planted, but failed, sites) would occur. The current level of a wildlife-dependent recreation activities (hunting, fishing, wildlife observation, wildlife photography, and environmental education and interpretation) opportunities would be maintained. Under the alternative, the refuge would continue to seek acquisition of all willing seller properties within the present acquisition boundary.

The preferred alternative, Alternative 2, is considered to be the most effective management action for meeting the purposes of the refuge by conserving wetlands and migratory waterfowl, while reducing forest fragmentation, identifying lands of conservation priority, and working with partners to contribute to the 100,000-acre forest block objective for the Red River/Three Rivers Conservation Area, and contributing to a sustainable ecosystem. The preferred alternative seeks to conduct extensive wildlife population monitoring/surveying in order to assess population status, trends, wildlife habitat associations, and population responses to habitat management. The intensive management of habitats is expected to provide a wide variety of habitat elements that will, in turn, sustain a richer variety of flora and fauna through their life cycles. This proposed management will benefit not only waterfowl, but also shorebirds, enotropical migratory and upland birds, fishery resources, reptiles, amphibians, threatened and endangered species, especially the Louisiana black bear, and resident wildlife species. The preferred alternative also calls for intensive efforts to forge partnerships to attain refuge goals, as well as to promote wildlife-dependent public uses. The six priority wildlife-dependent public uses will continue to be supported and in some cases will be expanded throughout the refuge under the preferred alternative. This alternative will also strengthen the close working relationship in existence between the Service, the local community, conservation organizations, the Louisiana Department of Wildlife and Fisheries, and other state and federal agencies.

The primary focus under Alternative 3 would be to add more staff, equipment, and facilities in order to maximize bottomland hardwood forest restoration in support of migratory birds and other wildlife. Under this alternative, 17,525 acres of refuge lands would be protected, maintained, restored, and enhanced for resident wildlife, waterfowl, migratory nongame birds, and threatened and endangered species. Additionally, the acquisition boundary would be expanded (77,000 acres) to create forested linkages with the State of Louisiana's Spring Bayou and Grassy Lake Wildlife Management Areas. The primary purpose for this expansion would be to provide a bottomland forest system of sufficient size and carrying capacity to reach regional objectives associated with area-sensitive neotropical migratory birds, Louisiana black bear, forest-associated waterfowl, woodcook, and wetland forest landscapes. Extensive wildlife and plant censuses and inventory activities would be initiated to obtain the biological information needed to implement management programs on the refuge. Most refuge management actions would be directed toward creating and managing the largest possible amount of interior and corridor forest habitat (for Louisiana blackbear, neotropical migratory songbirds, and other interior forest wildlife) and reducing forest fragmentation, while supporting the refuge's primary purpose; and help meet the habitat conservation goals of the North American Waterfowl Management Plan) with the smallest possible commitment in land resources. Cooperative farming would be eliminated. Agricultural acreage would be reduced to 240 acres; all farming would be conducted by refuge staff. A forest management plan, designed to address this alternative's primary goals by creating spatially and specifically diverse woodlands, would be developed and implemented. High quality wildlife-dependent activities (hunting, fishing, wildlife observation, wildlife photography, and environmental education and interpretation) opportunities would increase.

The primary focus under Alternative 4 would be to add more staff, equipment, and facilities in order to restore the refuge's wetland hydrology in support of migratory birds, particularly waterfowl and shorebirds. Cooperative farming would be increased to provide more waterfowl habitat. A forest management plan, designed to address this alternative's forest management goals of creating spatially and specifically diverse woodlands (with no negative effect on waterfowl obligations) would be developed and implemented. High quality wildlife-dependent recreation activities would be provided and increased. Under this alternative, the refuge would continue to seek acquisition of all willing seller properties within the present acquisition boundary. Lands acquired as part of the refuge would be made available for compatible wildlife-dependent public recreation and environmental education opportunities.

DATES: A meeting will be held to present the plan to the public. Mailings, newspaper articles, and postings on the refuge Web site will be the avenues to inform the public of the date and time for the meeting. Individuals wishing to comment on the Draft Comprehensive Conservation Plan and Environmental Assessment for Lake Ophelia National Wildlife Refuge should do so within 45 days following the date of this notice.

ADDRESSES: Requests for copies of the Draft Comprehensive Conservation Plan and environmental Assessment should be addressed to the Central Louisiana National Wildlife Refuge Complex, 401 Island Road, Marksville, Louisana 71351; Telephone 381/253-4238. The plan and environmental assessment may also be accessed and downloaded from the Service's Internet Web site http://southeast.fws.gov/planning/. Comments on the draft plan may be submitted to the above address or via electronic mail to tina_chouinard@fws.gov. Please include your name and return address in your Internet message. Our practice is to make comments, including names and home addresses of respondents, available for public review during regular business hours. Individual respondents may request that we withhold their home addresses from the record, which we will honor to the extent allowable by law.

SUPPLEMENTARY INFORMATION: Lake Ophelia National Wildlife Refuge in north Avoyelles Parish, Louisiana, is about 15 miles northeast of the city of Marksville and 30 miles southeast of the city of Alexandria. The refuge covers a total of 17,525 acres and lies approximately 8 miles northwest of where the Red River empties into the Atchafalaya River. This region is part of the Lower Mississippi River Alluvial Plain. The integration of bottomland hardwood forests and open wetland systems, long growing season, abundant rainfall, and geographical proximity to the Mississippi River provide habitat for a diversity of species including waterfowl, neotropical migratory birds, resident wildlife, and Louisiana black bear.

The refuge was established in 1988 to provide wintering habitat for mallards, northern pintails, and wood ducks, as well as breeding and nesting habitat for wood ducks, and to assist in meeting the goals of the North American Waterfowl Management Plan. The refuge is also being managed to provide habitat for a natural diversity of plants and animals, and to provide opportunities for compatible wildlife-dependent recreation, including hunting, fishing, wildlife observation, wildlife photography, and environmental education and interpretation.

Authority: This notice is published under the authority of the National Wildlife Refuge System Improvement Act of 1997, Pub. L. 105-57.

Dated: January 19, 2005.
Cynthia K. Dohner,
Acting Regional Director.

[FR Doc. 05-6680 Filed 4-4-05; 8:45 am]

BILLING CODE 4310-55-M